DEPARTMENT OF AGRICULTURE

Animal and Plant Health Inspection Service

[Docket No. APHIS-2019-0083]

Notice of Availability of an Environmental Assessment; Cogongrass Control Efforts in Alabama, Georgia, Mississippi, and South Carolina

AGENCY: Animal and Plant Health Inspection Service, USDA.

ACTION: Notice of availability and request for comments.

SUMMARY: We are advising the public that the Animal and Plant Health Inspection Service is making available a draft programmatic environmental assessment for control of cogongrass, a noxious weed, in Alabama, Georgia, Mississippi, and South Carolina. The environmental assessment assesses the potential environmental effects of establishing an integrated management strategy to control cogongrass in coordination with the above States. We are making the draft programmatic environmental assessment available to the public for review and comment.

DATES: We will consider all comments that we receive on or before April 1, 2020.

ADDRESSES: You may submit comments by either of the following methods:

• Federal eRulemaking Portal: Go to http://www.regulations.gov/#!docketDetail;D=APHIS-2019-0083.

• Postal Mail/Commercial Delivery: Send your comment to Docket No. APHIS-2019-0083, Regulatory Analysis and Development, PPD, APHIS, Station 3A-03.8, 4700 River Road, Unit 118, Riverdale, MD 20737-1238.

Supporting documents and any comments we receive on this docket may be viewed at http://www.regulations.gov/#!docketDetail;D=APHIS-2019-0083 or in our reading room, which is located in Room 1141 of the USDA South Building, 14th Street and Independence Avenue SW, Washington, DC. Normal reading room hours are 8 a.m. to 4:30 p.m., Monday through Friday, except holidays. To be sure someone is there to help you, please call (202) 799-7039 before coming.

FOR FURTHER INFORMATION CONTACT: Ms. Anne LeBrun, APHIS, 4700 River Road, Unit 26, Riverdale, MD 20737, Phone: 301-851-2259, Email: anne.lebrun@usda.gov.

SUPPLEMENTARY INFORMATION: Cogongrass (Imperata cylindrica) is an invasive, exotic perennial grass that is naturalized throughout the southeastern United States. Cogongrass grows in both natural and disturbed areas, including around homes, on public properties, paved and unpaved roadways, forestland, stream banks, and farmland. It spreads rapidly, reducing forest productivity, harming wildlife habitat and native ecosystems, encroaching in pasture and hayfields, and impacting rights-of-way. It usually grows in warm or tropical areas and is widely distributed on all continents except Antarctica.

In 7 CFR part 360, a noxious weed is defined as “any plant or plant product that can directly or indirectly injure or cause damage to crops (including nursery stock or plant products), livestock, poultry, or other interests of agriculture, irrigation, navigation, the natural resources of the United States, the public health, or the environment.” As a federally regulated noxious weed, Cogongrass is restricted from entry into the United States.

Due to the impact cogongrass has on the agriculture and forestry industries, Congress has provided the Animal and Plant Health Inspection Service (APHIS) with funding to partner with four States—Alabama, Georgia, Mississippi, and South Carolina—to establish a program for controlling the spread of cogongrass. While it is unlikely that cogongrass can be eliminated from the southeastern United States, we have proposed that active control and eradication of cogongrass along the edge of the naturalized distribution area may be possible through an integrated management strategy employing preventative, cultural, mechanical, biological, and chemical methods.

We are therefore announcing the availability of a draft programmatic environmental assessment (EA), entitled “Cogongrass Control Program in the Southeastern United States—Alabama, Georgia, Mississippi and South Carolina” (December 2019), that considers the potential environmental effects of an integrated management strategy—APHIS' preferred alternative—to control the spread of cogongrass. The EA also considers the alternative of having no Federal program and taking no action. APHIS will use this EA for cogongrass program planning and decisionmaking, in addition to informing the public about the potential environmental effects of actions considered as part of the integrated management strategy. We are making the EA available for review and comment and will consider all comments that we receive on or before the date listed under the heading DATES at the beginning of this notice.

The EA may be viewed on the Regulations.gov website or in our reading room (see ADDRESSES above for a link to Regulations.gov and information on the location and hours of the reading room). You may request paper copies of the EA by calling or writing to the person listed under FOR FURTHER INFORMATION CONTACT. Please refer to the title of the EA when requesting copies.

The EA has been prepared in accordance with: (1) The National Environmental Policy Act of 1969 (NEPA), as amended (42 U.S.C. 4321 et seq.); (2) regulations of the Council on Environmental Quality for implementing the procedural provisions of NEPA (40 CFR parts 1500-1508); (3) USDA regulations implementing NEPA (7 CFR part 1b); and (4) APHIS' NEPA Implementing Procedures (7 CFR part 372).

Done in Washington, DC, this 25th day of February 2020.
Kevin Shea,
Administrator, Animal and Plant Health Inspection Service.

[FR Doc. 2020-04239 Filed 2-28-20; 8:45 am]

BILLING CODE 3410-34-P